NUCLEAR REGULATORY COMMISSION

10 CFR Part 50

RIN 3150-AF95

Monitoring the Effectiveness of Maintenance at Nuclear Power Plants; Confirmation of Effective Date and Availability of Guidance

AGENCY: Nuclear Regulatory Commission.

ACTION: Final rule: Confirmation of effective date and availability of guidance.

SUMMARY: The Nuclear Regulatory Commission amended its regulation concerning requirements for monitoring the effectiveness of maintenance at nuclear power plants on July 19, 1999 (64 FR 38551). The effective date of this amendment was deferred until guidance on assessing and managing increases in risk associated with maintenance activities was issued to nuclear power plant licensees. This document announces the availability of that guidance (Regulatory Guide 1.182, “Assessing and Managing Risk Before Maintenance Activities at Nuclear Power Plants”) and specifies the effective date for the July 19, 1999, amendment to the maintenance rule.

EFFECTIVE DATE: November 28, 2000.

ADDRESSES: Regulations, certain regulatory guides, and certain endorsed NUMARC documents are available for inspection or downloading at the NRC's web site, <WWW.NRC.GOV>. Single copies of regulatory guides may be obtained free of charge by writing the Reproduction and Distribution Services Section, U.S. Nuclear Regulatory Commission, Washington, DC 20555-0001, or by fax to (301) 415-2289, or by email to <DISTRIBUTION@NRC.GOV>. Issued guides may also be purchased from the National Technical Information Service on a standing order basis. Details on this service may be obtained by writing NTIS, 5285 Port Royal Road, Springfield, VA 22161. Copies of regulations, regulatory guides, and endorsed NUMARC documents are available for inspection or copying for a fee from the NRC Public Document Room at 2120 L Street NW., Washington, DC; the PDR's mailing address is Mail Stop LL-6, Washington, DC 20555; telephone (202) 634-3273 or (800) 397-4209; fax (202) 634-3343; email <PDR@NRC.GOV>.

Comments and suggestions in connection with items for inclusion in regulations and regulatory guides are encouraged at any time. Written comments may be submitted to the Rules and Directives Branch, Office of Administration, U.S. Nuclear Regulatory Commission, Washington, DC 20555.

FOR FURTHER INFORMATION CONTACT: W.E. Scott, Office of Nuclear Reactor Regulation, U.S. Nuclear Regulatory Commission, Washington, DC 20555; telephone (301) 415-1020; email <WES@NRC.GOV>.

SUPPLEMENTARY INFORMATION:

Background

The Nuclear Regulatory Commission amended its maintenance rule, 10 CFR 50.65, “Requirements for monitoring the effectiveness of maintenance at nuclear power plants,” on July 19, 1999 (64 FR 38551). This amendment requires nuclear power plant licensees to assess and manage the increase in risk that may result from proposed maintenance activities. The implementation date of this amendment was made dependent upon guidance being issued to nuclear power plant licensees on assessing and managing increases in risk associated with maintenance activities.

Rather than issue Revision 3 to Regulatory Guide 1.160, “Monitoring the Effectiveness of Maintenance at Nuclear Power Plants,” the NRC staff decided to issue Regulatory Guide 1.182, “Assessing and Managing Risk Before Maintenance Activities at Nuclear Power Plants,” as guidance to nuclear power plant licensees on assessing and managing risk before maintenance activities are conducted at the nuclear power plant. Regulatory Guide 1.182 is being issued as a companion guide to Regulatory Guide 1.160, which provides guidance on the structure of the licensees' maintenance effectiveness monitoring programs.

Regulatory Guide 1.160 endorses a document prepared by the Nuclear Energy Institute (formerly NUMARC), NUMARC 93-01, “Industry Guideline for Monitoring the Effectiveness of Maintenance at Nuclear Power Plants.” Regulatory Guide 1.182 endorses a revised Section 11, “Assessment of Risk Resulting from Performance of Maintenance Activities,” of NUMARC 93-01. Regulatory Guide 1.182 was published for public comment (64 FR 70098, December 15, 1999) as DG-1082, “Assessing and Managing Risk Before Maintenance Activities at Nuclear Power Plants.” There were no public comments on the draft guide, and NEI addressed the comments on Section 11 of NUMARC 93-01 with minor revisions, and the NRC staff concurs in these revisions.

Therefore, the effective date of the July 19, 1999, amendment to 10 CFR 50.65 is November 28, 2000.

Dated at Rockville, Maryland, this 26th day of May, 2000.
For the Nuclear Regulatory Commission.
J. Samuel Walker,
Acting Secretary of the Commission.

[FR Doc. 00-13746 Filed 5-31-00; 8:45 am]

BILLING CODE 7590-01-P